DEPARTMENT OF HEALTH AND HUMAN SERVICES

National Institutes of Health

Proposed Collection; Comment Request; The Impact of a Decade of the Fogarty International Research Collaborative Award (FIRCA)

SUMMARY: In compliance with the requirement of section 3506(c)(2)(A) of the Paperwork Reduction Act of 1995, for opportunity for public comment on proposed data collection projects, the Fogarty International Center, the National Institutes of Health (NIH) will publish periodic summaries of proposed projects to be submitted to the Office of Management and Budget (OMB) for review and approval.

Proposed Collection: Title: The impact of a decade of the Fogarty International Research Cooperative Award (FIRCA). Type of Information Collection Request: New. Need and Use of Information Collection: This study will access the outputs, outcomes and impacts of the Fogarty International Research Collaboration Awards (FIRCA). The primary objectives of the study are to determine if FIRCA awards (1) extend and enhance the research interests of the U.S. principle investigator (USPI) and the international research collaborator (IRC), (2) increase the research capacity of the international scientists and institution, and (3) foster discovery and reduce global health disparities through the support of international cooperation across the continuum of basic, clinical and applied biomedical, behavioral and health sciences. The findings will provide valuable information concerning: (1) Specific research advances attributable to FIRCA support; (2) specific capacity and career enhancing advances that are attributable to FIRCA funding; (3) policy implications for the FIRCA program based on USPI and IRC responses. Frequency of Response: Once. Affected Public: none. Type of Respondents: U.S. researchers and their foreign research collaborators. There are no capital costs to report. There are no operating or maintenance costs to report.

Type of respondents | Estimated number of respondents | Estimated number of responses per respondent | Average burden hours per response | Estimated total annual burden hours requested
US PI | 453 | 1 | .55 | 249.15
IRC | 453 | 1 | .55 | 249.15
Total |  |  |  | 598.15

Type respondents | Number of respondents | Frequency of response | Hourly wage rate | Respondent cost
USPI | 453 | 1 | $55 | $24,915
IRC | 453 | 1 | 10 | 4,530
Total Cost |  |  |  | 29,445

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Linda Kupfer, Fogarty International Center, National Institutes of Health, 16 Center Drive, Building 16, Bethesda, MD 20892-6705 or call non-toll-free number (301) 496-3288 or E-mail your request, including your address to: Kupferl@mail.nih.gov.

Comments Due Date: Comments regarding this information collection are best assured of having their full effect if received within 60-days of the date of this publication.

Dated: March 13, 2003.
H. Richard Miller,
Executive Officer, Fogarty International Center, National Institutes of Health.

[FR Doc. 03-7156 Filed 3-25-03; 8:45 am]

BILLING CODE 4140-01-P